DEPARTMENT OF THE INTERIOR

National Park Service

National Register of Historic Places; Notification of Pending Nominations and Related Actions

Nominations for the following properties being considered for listing or related actions in the National Register were received by the National Park Service before July 2, 2005. Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by August 9, 2005.

John W. Roberts,
Acting Chief, National Register/National Historic Landmarks Program.

ALABAMA

Baldwin County

Stuart, Henry, House, 22787 AL 98, Montrose, 05000841

Calhoun County

Cooper, Davis C., House, 301 Main St., Oxford, 05000835

Jackson County

Townsend Farmhouse, Cty Rte 34, E side, 0.8 mi. N of Cty Rte 234, Hollywood, 05000838

Marshall County

Company E of the 167th Infantry of the Alabama National Guard Armory, Rayburn Ave., Guntersville, 05000842

Russell County

Hurt, Joel, House, Church St., Hurtsboro, 05000834

Tallapoosa County

Avondale Historic District, Bet. Rose Ave. and Scott St., Hillabee St. and 7th St., Alexander City, 05000837

North Central Historic District, Bet. Hall and Summer, Warren and Hillabee, Warren and Ridgeway, MLK and Hillabee, Alexandria City, 05000833

Russell Family Historic District, 35, 65, 85 N. Central, 228, 334 Robin Hill, 101 Russwood, Alexandria, 05000839

South Central Historic District, Bounded by Broad St., Tallpoosa St., Cherokee Rd., Bishop St., Franklin St., Willow St., Alexander City, 05000840

CALIFORNIA

San Bernardino County

Euclid Avenue, From 24th St. in Upland to Philadelphia St. in Ontario, Upland and Ontario, 05000843

COLORADO

Chaffee County

Hutchinson Ranch (Boundary Increase), 8911 W U.S. 50, Salida, 05000847

FLORIDA

Manatee County

Jordan, Rufus P., House, 760 Broadway St., Longboat Key, 05000844

ILLINOIS

Boone County

Lampert—Wildflower House, 410 E. Lincoln Ave., Belvidere, 05000870

Cook County

Central Park Theater, 3531-39 W. Roosevelt Rd., Chicago, 05000873

Cornell Square, (Chicago Park District MPS) 1809 W 50th St., Chicago, 05000875

Illinois Institute of Technology Academic Campus, Roughly bounded by 31st St., State St., 325th St. and the Dan Ryan Expressway, Chicago, 05000871

Purple, George E., House, 338 Sunset Ave., LaGrange, 05000845

Du Page County

Grand Theater, 123 N. Hale St., Wheaton, 05000872

Iroquois County

Prairie Dell Meetinghouse, Jct. of 2550 East and 2150 North Rd., Iroquois, 05000846

Pike County

New Philadelphia Town Site, Address Restricted, Barry, 05000869

Tazewell County

Denhart Bank Building, 101 Washington Sq., Washington, 05000874

MARYLAND

Montgomery County

Moreland, 7810 Moorland Ln., Bethesda, 05000877

MASSACHUSETTS

Berkshire County

Wahconah Park, 143 Wahconah St., Pittsfield, 05000878

Plymouth County

District 7 School House, 565 Main St., Hanson, 05000876

Suffolk County

Home for Aged Couples, 409, 419 Walnut Ave. and 2055 Columbus Ave., Boston, 05000879

MISSOURI

Gentry County

Peery, Samuel and Pauline, House, 1105 N. Hundley St., Albany, 05000881

St. Louis Independent city Vashon Community Center, 3145 Market St., St. Louis (Independent City), 05000882

MONTANA

Beaverhead County

Hecla House, Approx. 11 mi. W of Glendale on Trapper Creek Rd. #188, Melrose, 05000885

Lewis and Clark County

Gilpatrick—Root House, 604 Dearborn Ave., Helena, 05000883

NEW JERSEY

Essex County

Route 1 Extension, US 1 and 9 milepoint: 51.25-54.55, NJ 139 milepoint 0-4.5, Newark, 05000880

Hudson County

Van Wagenen House, 298 Academy St., Jersey City, 05000884

OHIO

Clinton County

Silk City Diner #4655, 303 Washington St., Sabina, 05000848

OREGON

Lane County

Lowell Grange, 51 E 2nd St., Lowell, 05000849

Washington County

Mertz, C.W., Rental House #2, (Taylor Process Hollow Concrete Wall Construction in Forest Grove, Oregon MPS) 1933 16th Ave., Forest Grove, 05000852

Parsons, John and Elsie, House, (Taylor Process Hollow Concrete Wall Construction in Forest Grove, Oregon MPS) 1825 Mountain View Ln., Forest Grove, 05000853

Taylor, Dr. W.R. and Eunice, House, (Taylor Process Hollow Concrete Wall Construction in Forest Grove, Oregon MPS) 2212 “A” St., Forest Grove, 05000851

PENNSYLVANIA

Montgomery County

Sunnybrook, 50 Sunnybrook Rd., Lower Pottsgrove Township, 05000855

TENNESSEE

Giles County

Maplewood Cemetery, South Sam Davis Ave., Pulaski, 05000854

Shelby County

Normal Station Historic District, (Memphis MPS) Roughly bounded by Highland, Goodlett, Southern RR, and rear property lines of Marion and parcels on Park, Memphis, 05000866

TEXAS

Bexar County

Fence at Alamo Cement Company, (Sculpture by Dionicio Rodriguez in Texas MPS) 7300 Jones Maltsberger Rd., San Antonio, 05000861

Fountain at Alamo Cement Company, (Sculpture by Dionicio Rodriguez in Texas MPS) 7300 Jones Maltsberger Rd., San Antonio, 05000862

Heubner—Onion Homestead and Stagecoach Stop, 6613 Bandera Rd., Leon Valley, 05000860

Collin County

Plano Station, Texas Electric Railway, 901 E 15th St., Plano, 05000856

Dallas County

Seagoville School, 306 N. Kaufman St., Seagoville, 05000857

Harris County

Aviary at the Houston Zoo, (Sculpture by Dionicio Rodriguez in Texas MPS) 1513 N. McGregor, Houston, 05000858

Jefferson Davis Hospital, 1101 Elder, Houston, 05000859

Polk County

McCardell, William Keenan and Nancy Elizabeth, House, 705 N. Beatty, Livingston, 05000863

Tarrant County

Vaught House, 718 W. Abram St., Arlington, 05000864

Trinity County

Red Schoolhouse, Old, 100 W. San Jacinto, Trinity, 05000865

VERMONT

Windham County

Grafton Distric Schoolhouse No. 2, (Educational Resources of Vermont MPS) 217 Main St., Grafton, 05000868

VIRGINIA

Richmond Independent city

Virginia State Library, 1111 E. Broad St., Richmond, 05000867

A request for a MOVE has been made for the following resource:

UTAH

Salt Lake County

Independent Order of Odd Fellows Hall 41 Post Office Place, Salt Lake 77001308

[FR Doc. 05-14550 Filed 7-22-05; 8:45 am]

BILLING CODE 4312-51-P